DEPARTMENT OF ENERGY

Federal Energy Regulatory Commission

Combined Notice of Filings #1

Take notice that the Commission received the following electric corporate filings.

Docket Numbers: EC19-77-000.

Applicants: Public Service Company of Colorado, Twin Eagle Resource Management, LLC.

Description: Joint Application for Authorization Under Section 203 of the Federal Power Act, et al. of Twin Eagle Resource Management, LLC, et al.

Filed Date: 4/8/19.

Accession Number: 20190408-5194.

Comments Due: 5 p.m. ET 4/29/19.

Take notice that the Commission received the following electric rate filings.

Docket Numbers: ER18-228-002.

Applicants: Southwestern Public Service Company.

Description: Compliance filing: SPS Depreciation Settlement Compliance Filing ER18-228 to be effective 1/1/2018.

Filed Date: 4/8/19.

Accession Number: 20190408-5184.

Comments Due: 5 p.m. ET 4/29/19.

Docket Numbers: ER19-303-001.

Applicants: Duquesne Light Company.

Description: Compliance Filing of Duquesne Light Company.

Filed Date: 3/1/19.

Accession Number: 20190301-5399.

Comments Due: 5 p.m. ET 4/24/19.

Docket Numbers: ER19-478-001.

Applicants: FirstEnergy Solutions Corp.

Description: Compliance filing: Notice of Effective Date for Rate Schedule FERC No. 1 [ER19-1007] to be effective 3/29/2019.

Filed Date: 4/9/19.

Accession Number: 20190409-5000.

Comments Due: 5 p.m. ET 4/30/19.

Docket Numbers: ER19-1127-000.

Applicants: Calpine King City Cogen, LLC.

Description: Supplement to February 26, 2019 Calpine King City Cogen, LLC tariff filing.

Filed Date: 3/26/19.

Accession Number: 20190326-5256.

Comments Due: 5 p.m. ET 4/16/19.

Docket Numbers: ER19-1536-000.

Applicants: South Carolina Electric & Gas Company.

Description: Tariff Cancellation: Notice of Termination of WR Tariff (sections) to be effective 3/30/2010.

Filed Date: 4/8/19.

Accession Number: 20190408-5153.

Comments Due: 5 p.m. ET 4/29/19.

Docket Numbers: ER19-1537-000.

Applicants: AEP Texas Inc.

Description: § 205(d) Rate Filing: AEPTX-Taygete Energy Project II Interconnection Agreement to be effective 3/27/2019.

Filed Date: 4/9/19.

Accession Number: 20190409-5030.

Comments Due: 5 p.m. ET 4/30/19.

Docket Numbers: ER19-1538-000.

Applicants: NorthWestern Corporation.

Description: § 205(d) Rate Filing: SA 31 20th Rev—NITSA with Philips 66 Company to be effective 7/1/2019.

Filed Date: 4/9/19.

Accession Number: 20190409-5058.

Comments Due: 5 p.m. ET 4/30/19.

Docket Numbers: ER19-1539-000.

Applicants: Midcontinent Independent System Operator, Inc., Ameren Illinois Company.

Description: § 205(d) Rate Filing: 2019-04-09_SA 3295 Ameren-Walnut Ridge Wind Construction Agreement to be effective 4/10/2019.

Filed Date: 4/9/19.

Accession Number: 20190409-5077.

Comments Due: 5 p.m. ET 4/30/19.

Docket Numbers: ER19-1540-000.

Applicants: Midwest Power Company.

Description: Tariff Cancellation: Cancellation of Market Based Rate Tariff to be effective 4/10/2019.

Filed Date: 4/9/19.

Accession Number: 20190409-5084.

Comments Due: 5 p.m. ET 4/30/19.

Docket Numbers: ER19-1541-000.

Applicants: Midcontinent Independent System Operator, Inc.

Description: Pre-Arranged/Pre-Agreed (Stipulation and Offer of Settlement) Filing, et al. of the Midcontinent Independent System Operator, Inc., et al.

Filed Date: 4/9/19.

Accession Number: 20190409-5118.

Comments Due: 5 p.m. ET 4/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 9, 2019.
Nathaniel J. Davis, Sr.,
Deputy Secretary.

[FR Doc. 2019-07403 Filed 4-12-19; 8:45 am]

BILLING CODE 6717-01-P